NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Pub. L. 104-13. This is the second notice for public comment; the first was published in the Federal Register at 79 FR 66419, with a corrected notice published at 79 FR 68728, along with a notice published at 79 FR 78497 requesting comments on management fees for large facilities, and 48 comments were received. NSF is forwarding the proposed submission to the Office of Management and Budget (OMB) for clearance simultaneously with the publication of this second notice. The full submission may be found at: http://www.reginfo.gov/public/do/PRAMain.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION:

Summary of Comments on the National Science Foundation Proposal and Award Policies and Procedures Guide and NSF's Responses

The draft Large Facilities Manual was made available for review by the public on the NSF Web site at http://www.nsf.gov/bfa/lfo/NSF_Large_Facilities_Manual_110414_1700-WM_(for_OMB).pdf. In response to the Federal Register notice published December 30, 2014, at 79 FR 78497, NSF received 48 comments from 6 different institutions/individuals. This notice was published to receive comments for a revised subsection of the Large Facilities Manual, 4.2.2.2, “Management Fee.” This management fee subsection will be incorporated into the revised NSF Large Facility Manual, which will be released following OMB approval of this information collection request. A summary of the comments is as follows: 48 responses were received from six different institutions/individuals, broken down by the following:

• 7 responses questioned alignment with an existing Federal Regulation/Policy/Guideline

• 25 suggested changes to the NSF-proposed Policy/Procedures; and

• 16 provided general observations

The full comments and NSF's response may be found via: http://www.reginfo.gov/public/do/PRAMain

SUPPLEMENTARY INFORMATION:

Title of Collection: “Large Facilities Manual”.

OMB Approval Number: 3145-NEW.

Expiration Date of Approval: Not applicable.

Type of Request: Intent to seek approval to establish an information collection for three years.

Proposed Project

The National Science Foundation Act of 1950 (Pub. L. 81-507) set forth NSF's mission and purpose:

“To promote the progress of science; to advance the national health, prosperity, and welfare; to secure the national defense. . . .”

The Act authorized and directed NSF to initiate and support:

• Basic scientific research and research fundamental to the engineering process;

• Programs to strengthen scientific and engineering research potential;

• Science and engineering education programs at all levels and in all the various fields of science and engineering;

• Programs that provide a source of information for policy formulation; and

• Other activities to promote these ends.

Among Federal agencies, NSF is a leader in providing the academic community with advanced instrumentation needed to conduct state-of-the-art research and to educate the next generation of scientists, engineers and technical workers. The knowledge generated by these tools sustains U.S. leadership in science and engineering (S&E) to drive the U.S. economy and secure the future. NSF's responsibility is to ensure that the research and education communities have access to these resources, and to provide the support needed to utilize them optimally, and implement timely upgrades.

The scale of advanced instrumentation ranges from small research instruments to shared resources or facilities that can be used by entire communities. The demand for such instrumentation is very high, and is growing rapidly, along with the pace of discovery. For large facilities and shared infrastructure, the need is particularly high. This trend is expected to accelerate in the future as increasing numbers of researchers and educators rely on such large facilities, instruments, and databases to provide the reach to make the next intellectual leaps.

NSF currently provides support for facility construction from two accounts: the Major Research Equipment and Facility Construction (MREFC) account, and the Research and Related Activities (R&RA) account. The MREFC account, established in FY 1995, is a separate budget line item that provides an agency-wide mechanism, permitting directorates to undertake large facility projects that exceed 10% of the Directorate's annual budget; or roughly $100M or greater. Smaller projects continue to be supported from the R&RA Account.

Facilities are defined as shared-use infrastructure, instrumentation and equipment that are accessible to a broad community of researchers and/or educators. Facilities may be centralized or may consist of distributed installations. They may incorporate large-scale networking or computational infrastructure, multi-user instruments or networks of such instruments, or other infrastructure, instrumentation and equipment having a major impact on a broad segment of a scientific or engineering discipline. Historically, awards have been made for such diverse projects as accelerators, telescopes, research vessels and aircraft, and geographically distributed but networked sensors and instrumentation.

The growth and diversification of large facility projects require that NSF remain attentive to the ever-changing issues and challenges inherent in their planning, construction, operation, management and oversight. Most importantly, dedicated, competent NSF and awardee staff are needed to manage and oversee these projects; giving the attention and oversight that good practice dictates and that proper accountability to taxpayers and Congress demands. To this end, there is also a need for consistent, documented requirements and procedures to be understood and used by NSF program managers and awardees for all such large projects.

Use of the Information: Facilities are an essential part of the science and engineering enterprise, and supporting them is one major responsibility of the National Science Foundation (NSF). NSF makes awards to external entities—primarily universities, consortia of universities or non-profit organizations—to undertake construction, management and operation of facilities. Such awards frequently take the form of cooperative agreements. NSF does not directly construct or operate the facilities it supports. However, NSF retains responsibility for overseeing their development, management and successful performance. The Large Facilities Manual is intended to:

• Provide step-by-step guidance for NSF staff and awardees to carry out effective project planning, management and oversight of large facilities while considering the varying requirements of a diverse portfolio;

• Clearly state the policies, processes and procedures pertinent at each stage of a facility's life cycle from development through construction, operations, and termination; and

• Document and disseminate “best practices” identified over time so that NSF and awardees can carry out their responsibilities more effectively.

This version of the Large Facilities Manual reflects recent changes in organization and formatting to improve readability and facilitate period revision. It also up-dates sections related to contingency and cost estimating requirements. The Manual does not replace existing formal procedures required for all NSF awards, which are described in the Grant Proposal Guide and The Award and Administration Guide. Instead, it draws upon and supplements them for the purpose of providing detailed guidance regarding NSF management and oversight of facilities projects. All facilities projects require merit and technical review, as well as approval of certain deliverables. The level of review and approval varies substantially from standard grants, as does the level of oversight needed to ensure appropriate and proper accountability for federal funds. The requirements, recommended procedures and best practices presented in the Manual apply to any facility significant enough to require close and substantial interaction with the Foundation and the National Science Board.

This Manual will be updated periodically to reflect changes in requirements, policies and/or procedures. Award Recipients are expected to monitor and adopt the requirements and best practices included in the Manual which are aimed at improving management and oversight of large facilities projects and at enabling the most efficient and cost-effective delivery of tools to the research and education communities.

The submission of proposals and subsequent project documentation to the Foundation related to the development, construction and operations of Large Facilities is part of the collection of information. This information is used to help NSF fulfill this responsibility in supporting merit-based research and education projects in all the scientific and engineering disciplines. The Foundation also has a continuing commitment to provide oversight on facilities development and construction which must be balanced against monitoring its information collection so as to identify and address any excessive reporting burdens.

NSF has approximately twenty-two (22) Large Facilities in various stages of development, construction, operations and termination. One to two (1 to 2) new awards are made approximately every five (5) years based on science community infrastructure needs and availability of funding. Of the twenty-two large facilities, there are approximately eight (8) facilities annually that are either in development or construction. These stages require the highest level of reporting and management documentation per the Large Facilities Manual.

Burden to the Public: The Foundation estimates that an average of three (3) Full Time Equivalents (FTEs) are necessary for each facility project in development or construction (Total Project Cost of $200-$500M) to respond to NSF routine reporting and project management documentation requirements on an annual basis; or 6240 hours per year. The Foundation estimates an average of one (1) FTE for a facility in operations; or 2080 hours per year. Assuming an average of eight (8) facilities in construction and the balance in operations, this equates to roughly 80,000 public burden hours annually.

Suzanne H. Plimpton,
Reports Clearance Officer, National Science Foundation.

[FR Doc. 2015-05875 Filed 3-13-15; 8:45 am]

BILLING CODE 7555-01-P